DEPARTMENT OF ENERGY

Federal Energy Regulatory Commission

[Docket No. CP07-116-000]

El Paso Natural Gas Company; Notice of Request Under Blanket Authorization

March 29, 2007.

Take notice that on March 27, 2007, El Paso Natural Gas Company (EPNG), Post Office Box 1087, Colorado Springs, Colorado 80944, filed in Docket No. CP07-116-000, a prior notice request pursuant to §§ 157.205 and 157.208 of the Federal Energy Regulatory Commission's regulations under the Natural Gas Act for authorization to increase the maximum allowable operating pressure (MAOP) of the Slaughter Plant Line (Line No. 3000), originating in Cochran County, Texas and terminating in Hockley County, Texas, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, EPNG proposes to increase the MAOP on Line No. 3000, consisting of approximately 2.74 miles of 12¾ inch diameter pipeline, from a current MAOP of 744 psig to 780 psig and to thereafter operate Line No. 3000 at pressures up to and including the higher MAOP. EPNG states that the increase of the MAOP will allow EPNG certain operational flexibility and will have a de minimus effect on the current capacity of Line No. 3000. EPNG asserts that the cost of increasing the MAOP will be zero because existing test data for Line No. 3000 derived from a past pressure test and other historical information met the requirements to increase the MAOP to 780 psig.

Any questions regarding the application should be directed to Richard Derryberry, Director, Regulatory Affairs Department, El Paso Natural Gas Company, Post Office Box 1087, Colorado Springs, Colorado 80944, or call at (719) 520-3782.

Any person or the Commission's Staff may, within 60 days after the issuance of the instant notice by the Commission, file pursuant to Rule 214 of the Commission's Procedural Rules (18 CFR 385.214) a motion to intervene or notice of intervention and, pursuant to § 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Philis J. Posey,
Acting Secretary.

[FR Doc. E7-6203 Filed 4-3-07; 8:45 am]

BILLING CODE 6717-01-P